DEPARTMENT OF DEFENSE

Office of the Secretary

[Transmittal No. 00-30]

36(b)(1) Arms Sales Notification

AGENCY: Department of Defense, Defense Security Cooperation Agency.

ACTION: Notice.

SUMMARY: The Department of Defense is publishing the unclassified text of a section 36(b)(1) arms sales notification. This is published to fulfill the requirements of section 155 of P.L. 104-164 dated 21 July 1996.

FOR FURTHER INFORMATION CONTACT: Ms. J. Hurd, DSCA/COMPT/RM, (703) 604-6575.

The following is a copy of a letter to the Speaker of the House of Representatives, Transmittal 00-30 with attached transmittal and policy justification.

Dated: March 23, 2000.
Patricia L. Toppings,
Alternate OSD Federal Register Liaison Officer, Department of Defense.

Defense Security Cooperation Agency

6 Mar 2000

In reply refer to: I-00/002325

Honorable J. Dennis Hastert,

Speaker of the House of Representatives, Washington, D.C. 20515-6501.

Dear Mr. Speaker: Pursuant to the reporting requirements of Section 36(b)(1) of the Arms Export Control Act, we are forwarding herewith Transmittal No. 00-30 and under separate cover the classified annex thereto. This Transmittal concerns the Department of the Navy's proposed Letter(s) of Offer and Acceptance (LOA) to Germany for defense articles and services estimated to cost up to $200 million. Soon after this letter is delivered to your office, we plan to notify the news media of the unclassified portion of this Transmittal.

Sincerely,

Michael S. Davison, Jr.,
Lieutenant General, USA, Director.

Attachments

Separate Cover: Classified Annex

Same ltr to:

House Committee on International Relations

Senate Committee on Appropriations

Senate Committee on Foreign Relations

House Committee on National Security

Senate Committee on Armed Services

House Committee on Appropriations

Transmittal No. 00-30

Notice of Proposed Issuance of Letter of Offer Pursuant to Section 36(b)(1) of the Arms Export Control Act

(i) Prospective Purchaser: Germany.

(ii) Total Estimated Value:

| AGM-88B (in millions) |  | AGM-88C (in millions)
Major Defense Equipment ¹ | 35 |  | 150
Other | 15 |  | 50
Total | 50 | or | 200
¹ As defined in Section 47(6) of the Arms Export Control Act.

(iii) Description of Articles or Services Offered: Two hundred fifty AGM-88B or AGM-88C HARM missiles, missile containers, spare and repair parts, publications and technical documentation, engineering technical assistance, and other related elements of logistics and program support.

(iv) Military Department: Navy (AKP and AKQ).

(v) Sales Commission, Fee, etc., Paid, Offered, or Agreed to be Paid: None.

(vi) Sensitivity of Technology Contained in the Defense Article or Defense Services Proposed to be Sold: See annex attached.

(vii) Date Report Delivered to Congress: 6 March 2000.

Policy Justification

Germany-AGM-88B or AGM-88C HARM Missiles

The Government of Germany (GOG) has requested a possible sale of two hundred fifty AGM-88B or AGM-88C HARM missiles, missile containers, spare and repair parts, publications and technical documentation, engineering technical assistance, and other related elements of logistics and program support. The estimated total cost is $50 million (AGM-88B) or $200 million (AGM-88C).

This case will contribute to the foreign policy and national security objectives of the United States by improving the military capabilities of Germany to fulfill its NATO obligations; furthering NATO rationalization, standardization, and interoperability; and enhancing the defense of the Western Alliance.

The proposed sale will help replenish the GOG inventory, which was depleted during the Kosovo allied operations. Germany will have no difficulty absorbing these missiles into their armed forces. The proposed sale of this equipment and support will not affect the basic military balance in the region.

The prime contractor will be Raytheon Company, Tucson, Arizona. There are no offset agreements proposed in connection with this potential sale.

Implementation of this proposed sale will not require the assignment of any additional U.S. Government and contractor representatives to Germany.

There will be no adverse impact on U.S. defense readiness as a result of this proposed sale.

[FR Doc. 00-7661 Filed 3-28-00; 8:45 am]

BILLING CODE 5001-10-M